GENERAL SERVICES ADMINISTRATION

[OMB Control No. 3090-0287; Docket 2012-0001; Sequence 7]

Office of Facilities Management and Program Services; Information Collection; Background Investigations for Child Care Workers

AGENCY: Office of Facilities Management and Program Services, Public Building Service (PBS), U.S. General Services Administration (GSA).

ACTION: Notice of request for comments regarding an existing OMB information collection.

SUMMARY: Under the provisions of the Paperwork Reduction Act, the Regulatory Secretariat will be submitting to the Office of Management and Budget (OMB) a request to review and approve a previously approved information collection requirement regarding the collection of personal data for background investigations for child care workers accessing GSA owned and leased controlled facilities.

Public comments are particularly invited on: Whether this collection of information is necessary and whether it will have practical utility; whether our estimate of the public burden of this collection of information is accurate, and based on valid assumptions and methodology; ways to enhance the quality, utility, and clarity of the information to be collected.

DATES: Submit comments on or before: July 23, 2012.

FOR FURTHER INFORMATION CONTACT: Mr. Reginald Johnson, Program Analyst, Building Security and Policy Division, GSA, by telephone at (202) 208-7909 or email at Reginald.johnson@gsa.gov.

ADDRESSES: Submit comments identified by Information Collection 3090-0287, Background Investigations for Child Care Workers by any of the following methods:

• Regulations.gov: http://www.regulations.gov. Submit comments via the Federal eRulemaking portal by searching the OMB control number. Select the link “Submit a Comment” that corresponds with “Information Collection 3090-0287, Background Investigations for Child Care Workers”. Follow the instructions provided at the “Submit a Comment” screen. Please include your name, company name (if any), and “Information Collection 3090-0287, Background Investigations for Child Care Workers” on your attached document.

• Fax: 202-501-4067

• Mail: General Services Administration, Regulatory Secretariat (MVCB), 1275 First Street NE., Washington, DC 20417. ATTN: Hada Flowers/IC 3090-0287, Background Investigations for Child Care Workers.

Instructions: Please submit comments only and cite Information Collection 3090-0287, Background Investigations for Child Care Workers, in all correspondence related to this collection. All comments received will be posted without change to http://www.regulations.gov, including any personal and/or business confidential information provided.

SUPPLEMENTARY INFORMATION:

A. Purpose

Homeland Security Presidential Directive (HSPD) 12 “Policy for a Common Identification Standard for Federal Employees and Contractors” requires the implementation of a governmentwide standard for secure and reliable forms of identification for Federal employees and contractors. OMB's implementing instructions require all contract employees requiring routine access to federally controlled facilities for greater than six (6) months to receive a background investigation. The minimum background investigation is the National Agency Check with Written Inquiries or NACI.

However, there is no requirement in the law or HSPD-12 that requires child care employees to be subject to the NACI since employees of child care providers are neither government employees nor government contractors. Instead, the child care providers are required to complete the criminal history background checks mandated in the Crime Control Act of 1990, Public Law 101-647, dated November 29, 1990, as amended by Public Law 102-190, dated December 5, 1991. These statutes require that each employee of a child care center located in a Federal building or in leased space must undergo a background check.

According to GSA policy, child care workers (as described above) will need to submit the following:

1. An original signed copy of a Basic National Agency Check Criminal History, GSA Form 176; and

2. Two sets of fingerprints on FBI Fingerprint Cards, for FD-258.

This is not a request to collect new information, this is a request to change the form that is currently being used to collect this information. The new GSA forms will be less of a public burden. This information is presently being collected on either the old Federal Protective Service 176 Form or the SF85P.

Please Note: The original request to review and approve the new information collection requirement regarding the collection of personal data for background check investigations was for both temporary contractors and child care workers accessing GSA owned and leased controlled facilities. However, through discussions with OMB a more streamlined will be developed for conducting background checks on temporary contractors. GSA is therefore pulling the request for review and approval of the collection of personal data for background check investigations of temporary contractors, form GSA 176T, presented in the Federal Register publication of February 17, 2009, 74 FR 7439. GSA is proceeding with the request for review and approval for background check investigations of child care workers, form GSA 176C—to be referred to as form GSA 176, HSPD-12, Background Check Investigations for Child Care Workers.

B. Annual Reporting Burden

Respondents: 3,060.

Responses per Respondent: 1.

Hours per Response: 1.

Total Burden Hours: 3,060.

Obtaining Copies of Proposals: Requesters may obtain a copy of the information collection documents from the General Services Administration, Regulatory Secretariat (MVCB), 1275 First Street NE., Washington, DC 20417, telephone (202) 501-4755. Please cite Background Investigations for Child Care Workers, in all correspondence.

Dated: May 14, 2012.
Casey Coleman,
Chief Information Officer.

[FR Doc. 2012-12645 Filed 5-23-12; 8:45 am]

BILLING CODE 6820-23-P